DEPARTMENT OF LABOR

Employment and Training Administration

[TA-W-39, 383]

Tridelta Industries, Inc. Mentor, Ohio; Notice of Revised Determination on Reconsideration

By letter of July 19, 2001, the company requested administrative reconsideration regarding the Department's Negative Determination Regarding Eligibility to Apply for Worker Adjustment Assistance, applicable to the workers of the subject firm.

The initial investigation resulted in a negative determination issued on June 8, 2001, based on the finding that imports of pneumatic controls did not contribute importantly to worker separations at the Mentor plant. The denial notice was published in the Federal Register on June 27, 2001 (66 FR 34254).

To support the request for reconsideration, the company official provide additional information, which was not provided during the initial investigation. The official indicated that the company that acquired the subject plant began importing pneumatic controls shortly before the investigation was instituted and continued to increase their imports of pneumatic controls to compensate for the pneumatic controls once produced at the subject plant.

Conclusion

After careful review of the additional facts obtained on reconsideration, I conclude that increased imports of articles like or directly competitive with those produced at Tridelta Industries, Inc., Mentor, Ohio, contributed importantly to the declines in sales or production and to the total or partial separation of workers at the subject firm. In accordance with the provisions of the Act, I make the following certification:

All workers of Tridelta Industries, Inc., Mentor, Ohio, who became totally or partially separated from employment on or after May 18, 2000 through two years from the date of this certification, are eligible to apply for adjustment assistance under Section 223 of the Trade Act of 1974.

Signed in Washington, DC this 5th day of November 2001.
Edward A. Tomchick,
Director, Division of Trade Adjustment Assistance.

[FR Doc. 01-30066 Filed 12-4-01; 8:45 am]

BILLING CODE 4510-30-M